DEPARTMENT OF LABOR

Office of the Secretary

Submission for OMB Review: Comment Request

March 22, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent of Office of Information and Regulatory Affairs, Attn: OMB Desk Office for the Employment Standards Administration (ESA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validly of the methodology and assumptions used;

• Enhance the quality, utility, and clarity of the information to be collected; and

• Minimize the burden of the collection of information on those who are to respond, including through the use of appropriated automated, electronic, mechanical, or other technologies collection techniques or other forms of information technology, e.g., permitting electronic submission of responses.

Agency: Employment Standards Administration.

Type of Review: Extension without change of currently approved collection.

Title: Employment Information Form.

OMB Number: 1215-0001.

Form Number: WH-3.

Frequency: On occasion.

Type of Response: Reporting.

Affected Public: Individuals or households.

Estimated Number of Respondents: 3,500.

Estimated Number of Annual Responses: 3,500.

Estimated Average Response Time: 20 minutes.

Estimated Total Annual Burden Hours: 11,667.

Total Estimated Annualized capital/startup costs: $0.

Total Estimated Annual Costs (operating/maintaining systems or purchasing services): $0.

Description: Form WH-3 is an optional form complainants (e.g., current and former employees, unions, and, competitor employers) may use to provide information about alleged violations of the labor standards administered by the Wage and Hour Division (WHD) of the U.S. Department of Labor. Complaints themselves or WHS staff, using information provided by the complainants, complete the forms. WHD staff use the completed to obtain information about employer compliance with the provisions of the various labor standards laws enforced by the WHD and to determine if the agency has jurisdiction to investigate the alleged violation(s). WHD makes for form available in both English and Spanish. When the WHD schedules to complaint-based investigation, the agency makes the completed Form WH-3 part of the investigation case file.

Agency: Employment Standards Administration.

Type of Review: Extension without change of currently approved collection.

Title: Claim for Reimbursement-Assisted Reemployment.

OMB Number: 1215-0178.

Form Number: CA-2231.

Frequency: Quarterly.

Type of Response: Reporting.

Affected Public: Private Sector: Business and other for-profit.

Estimated Number of Respondents: 20.

Estimated Number of Annual Responses: 80.

Estimated Average Response Time: 30 minutes.

Estimated Total Annual Burden Hours: 40.

Total Annualized capital/startup costs: $0.

Total Annual Costs (operating/maintaining systems or purchasing services): $34.

Description: Information collected on Form CA-2231 provides DOL with the necessary remittance information for the employer, documents the hours of work, certifies the payment of wages to the claimant for which reimbursement is sought, and summarizes the nature and costs of the wage reimbursement program for a prompt decision by the Department's Office of Worker Compensation Programs (OWCP).

Failure to collect this information would prevent timely and accurate reimbursement to employers, hinder the documentation of disbursement from the Fund, and obstruct implementation of the assisted reemployment program.

Darrin A. King,
Acting Departmental Clearance Officer.

[FR Doc. E7-5627 Filed 3-27-07; 8:45 am]

BILLING CODE 4510-27-P